DEPARTMENT OF ENERGY

Federal Energy Regulatory Commission

[Project No. 2283-064]

FPL Energy Maine Hydro, LLC; Notice of Application Accepted for Filing and Soliciting Comments

Take notice that the following hydroelectric application has been filed with the Commission and is available for public inspection:

a. Application Type: Supplement to recreation and land/trail management plan.

b. Project No.: 2283-064.

c. Date Filed: March 25, 2011.

d. Applicant: FPL Energy Maine Hydro, LLC.

e. Name of Project: Gulf Island-Deer Rips Hydroelectric Project.

f. Location: Androscoggin River in Androscoggin County, Maine.

g. Filed Pursuant to: Federal Power Act, 16 U.S.C. 791a-825r.

h. Applicant Contact: Ernest Deluca, (800) 371-7774, ernest.m.deluca@nexteraenergy.com.

i. FERC Contact: Mark Carter, (678) 245-3083, mark.carter@ferc.gov.

j. Deadline for filing comments: August 8, 2011.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street, NE., Washington, DC 20426. Commenters can submit brief comments up to 6,000 characters, without prior registration, using the eComment system at http://www.ferc.gov/docs-filing/ecomment.asp. You must include your name and contact information at the end of your comments. Please include the project number (P-2283-064) on any comments filed.

k. Description of Application: Pursuant to the Commission's Order Modifying and Approving Recreation Plan and Land/Trail Management Plan issued March 25, 2010, FPL Energy Maine Hydro, LLC (licensee) filed an assessment of lands within 200 feet of the project impoundments with the goal of identifying additional lands needed for project purposes. As a result of its assessment, the licensee found that no additional lands are needed for project purposes and proposes no changes to the project boundary.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (P-2283) to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments: In determining the appropriate action to take, the Commission will consider all comments filed. Any comments must be received on or before the specified comment date for the particular application.

Dated: July 7, 2011.
Kimberly D. Bose,
Secretary.

[FR Doc. 2011-17589 Filed 7-12-11; 8:45 am]

BILLING CODE 6717-01-P